DEPARTMENT OF DEFENSE

Department of the Army; Corps of Engineers

Intent To Prepare an Integrated Water Supply Storage Reallocation Report; Environmental Impact Statement for Missouri River Municipal and Industrial (M & I) Reallocation and Hold Public Meetings

AGENCY: Department of the Army, U.S. Army Corps of Engineers, DoD.

ACTION: Notice of intent.

SUMMARY: Pursuant to the National Environmental Policy Act of 1969 (NEPA), as amended and the 1958 Water Supply Act, as amended, the U.S. Army Corps of Engineers (USACE), Omaha District, intends to prepare an integrated Municipal and Industrial (M&I) Water Supply Storage Reallocation Report and Environmental Impact Statement (EIS) for the Missouri River. The purpose of the study is to determine if changes to the current allocation of storage for M&I water supply may be warranted, and what the effects of making those changes would be on other authorized project purposes. If found to be feasible, storage could be allocated for purposes specific to M&I water supply storage, allowing for non-federal entities to acquire the rights to storage on a long-term or permanent basis via water supply contracts with the Corps of Engineers.

FOR FURTHER INFORMATION CONTACT: For additional information on the NEPA process, or to be added to the mailing list, contact Eric Laux, by mail: CENWO-PM-AC, U.S. Army Corps of Engineers, 1616 Capitol Avenue, Omaha, NE 68102, or by telephone: (402) 995-2682. For additional information on the Reallocation Study, contact Gwyn Jarrett, by mail: CENWO-PM-AA, U.S. Army Corps of Engineers, 1616 Capitol Avenue, Omaha, NE 68102, or by telephone: (402) 995-2717.

SUPPLEMENTARY INFORMATION:

Geographic Area. The study area will encompass the six mainstem reservoirs and river proper from the headwaters of Fort Peck Reservoir, Ft. Peck, MT to St. Louis, MO.

Project Scope. The demand for M&I water has increased in recent years and the Corps has received numerous requests for intakes and permission to withdraw water as a result of this demand. The Corps of Engineers is pursuing this study to evaluate the long- term Missouri River main stem water storage reallocation need in order to respond to the current and future water supply needs.

The 1944 Flood Control Act, as amended, directed the USACE to allocate the river's resources among the authorized Missouri River project purposes; which are: fish and wildlife, flood control, irrigation, navigation, hydropower, recreation, water quality, and water supply. Although water supply is one of the several purposes of the Missouri River main stem projects, no specific allocation of storage has been made for M&I. The Water Supply Act of 1958 provides the Assistant Secretary of the Army for Civil Works (ASA[CW]) the discretion to make a change in the use of storage in an existing reservoir project from its present use to M&I water supply (reallocation) and allows the secretary to enter into agreements for long term or permanent storage at Corps reservoir projects.

While water rights are conveyed by the state, the rights to water supply storage in a Corps reservoir may be acquired by non-federal entities on a long-term or permanent basis via a water supply contract with the Corps of Engineers. The cost of acquiring the right to storage would be based on the ASA (CW)'s determination of appropriate costs to be borne by the non-federal entities, as would be spelled out in the Decision Document that would result from the study.

The Reallocation Study will take a comprehensive, systems approach to evaluate present and future M&I storage needs along the Missouri River from the headwaters of Ft. Peck, MT to St. Louis, MO. In contemplating an allocation of storage to M&I to meet needs in the basin, the Reallocation Report/EIS will discuss and evaluate the following: (1) Identify current and future water demand and potential need for reallocated storage to support demand; (2) evaluate the impacts on the project purposes and existing users and whether or not compensation would be required; (3) determine environmental effects of any proposed action and whether or not mitigation would be required; (4) determine the price to be charged the purchasers of reallocated storage; and (5) determine appropriate compensation, if any, to existing users/beneficiaries. In addition to reallocation alternatives, other alternative sources of water supply will also be evaluated and compared to the use of Missouri River storage.

Scoping and agency meetings. Public concerns on issues, studies needed, alternatives to be examined, procedures and other related matters will be addressed during scoping. This process will be the key to preparing a concise EIS and clarifying the significant issues to be analyzed in depth. Public meetings are scheduled as follows:

August 20, 2012—Nebraska City, NE: Lied Lodge and Conference Center, 2700 Sylvan Road.

August 21, 2012—St. Joseph, MO: Stoney Creek Inn and Conference Center, 1201 North Woodbine Road.

August 22, 2012—St. Louis, MO: Marriott West, 660 Maryville Centre Drive.

August 23, 2012—Sioux City, IA: Holiday Inn, 701 Gordon Drive.

August 27, 2012—Pierre, SD: Best Western Ramkota, 920 W. Sioux Avenue.

August 28, 2012—Bismarck, ND: Best Western Doublewood Inn and Conference Center, 1400 E Interchange Avenue.

August 29, 2012—Glasgow, MT: Fort Peck Visitor Center, Highway 24 South 17 miles to Fort Peck.

Dated: July 11, 2012.
Gwyn Jarrett,
Project Manager.

[FR Doc. 2012-17591 Filed 7-18-12; 8:45 am]

BILLING CODE 3720-58-P